ENVIRONMENTAL PROTECTION AGENCY

[FRL-10093-01-OMS]

Privacy Act of 1974; System of Records

AGENCY: Office of Chemical Safety and Pollution Prevention, Environmental Protection Agency (EPA).

ACTION: Notice of a modified system of records.

SUMMARY: The U.S. Environmental Protection Agency's (EPA) Office of Chemical Safety and Pollution Prevention is giving notice that it proposes to modify the Federal Lead-Based Paint Program (FLPP) System of Records pursuant to the provisions of the Privacy Act of 1974. To perform Lead-Based Paint or Renovation, Repair, and Painting (RRP) Activities in target housing and child-occupied facilities, EPA requires firms to be certified, individuals to be trained/certified, trainers to be accredited, and individuals to adhere to certain work practice requirements. In addition, firms must notify EPA prior to commencement of lead-based paint abatement activities and accredited training providers must notify EPA with information regarding courses scheduled and provided. The Agency uses the FLPP Database to manage and store information related to the application process for the accreditation of training providers and the certification of firms and individuals who perform abatement and renovation repair and painting activities.

DATES: Persons wishing to comment on this system of records notice must do so by November 18, 2022. New and modified routine uses for this modified system of records will be effective November 18, 2022.

ADDRESSES: Submit your comments, identified by Docket ID No. EPA-HQ-OEI-2017-0588, by one of the following methods:

Federal eRulemaking Portal: https://www.regulations.gov. Follow the online instructions for submitting comments.

Email: docket_oms@epa.gov. Include the Docket ID number in the subject line of the message.

Fax: (202) 566-1752.

Mail: OMS Docket, Environmental Protection Agency, Mail Code: 2822T, 1200 Pennsylvania Ave. NW, Washington, DC 20460.

Hand Delivery: OMS Docket, EPA/DC, WJC West Building, Room 3334, 1301 Constitution Ave. NW, Washington, DC 20460. Such deliveries are only accepted during the Docket's normal hours of operation, and special arrangements should be made for deliveries of boxed information.

Instructions: Direct your comments to Docket ID No. EPA-HQ-OEI-2017-0588. The EPA's policy is that all comments received will be included in the public docket without change and may be made available online at https://www.regulations.gov, including any personal information provided, unless the comment includes information claimed to be Controlled Unclassified Information (CUI) or other information for which disclosure is restricted by statute. Do not submit information that you consider to be CUI or otherwise protected through https://www.regulations.gov. The https://www.regulations.gov website is an “anonymous access” system for the EPA, which means the EPA will not know your identity or contact information. If you submit an electronic comment, the EPA recommends that you include your name and other contact information in the body of your comment. If the EPA cannot read your comment due to technical difficulties and cannot contact you for clarification, the EPA may not be able to consider your comment. If you send an email comment directly to the EPA without going through https://www.regulations.gov, your email address will be automatically captured and included as part of the comment that is placed in the public docket and made available on the internet. Electronic files should avoid the use of special characters, any form of encryption, and be free of any defects or viruses. For additional information about the EPA public docket, visit the EPA Docket Center homepage at https://www.epa.gov/dockets.

Docket: All documents in the docket are listed in the https://www.regulations.gov index. Although listed in the index, some information is not publicly available, e.g., CUI or other information for which disclosure is restricted by statute. Certain other material, such as copyrighted material, will be publicly available only in hard copy. Publicly available docket materials are available either electronically in https://www.regulations.gov or in hard copy at the OMS Docket, EPA/DC, WJC West Building, Room 3334, 1301 Constitution Ave. NW, Washington, DC 20460. The Public Reading Room is normally open from 8:30 a.m. to 4:30 p.m., Monday through Friday excluding legal holidays. The telephone number for the Public Reading Room is (202) 566-1744, and the telephone number for the OMS Docket is (202) 566-1752. Further information about EPA Docket Center services and current operating status is available at https://www.epa.gov/dockets.

FOR FURTHER INFORMATION CONTACT: Robert Wright, Existing Chemicals Risk Management Division (7404T), Office of Pollution Prevention and Toxics, Environmental Protection Agency, 1200 Pennsylvania Ave. NW, Washington, DC 20460-0001; email address: wright.robert@epa.gov; telephone number: 202.566.1975.

SUPPLEMENTARY INFORMATION: The FLPP System of Records (FLPPSOR) is being modified to (1) change the name of the system from FLPPSOR to FLPP Database to be more consistent with Agency nomenclature, (2) update the General Routine Uses to add routine uses D, J, L, and M, (3) add a new routine use for the purpose of sharing information for Agency research purposes or to support other research activities (e.g., academic institutions research), and (4) update the “categories of individuals”, “categories of records”, and “policies and practices for retrieval of records” sections to ensure that all personally identifiable information contained within FLPP Database is addressed.

SYSTEM NAME AND NUMBER:

Federal Lead-Based Paint Program (FLPP) Database, EPA-SORN 54.

SECURITY CLASSIFICATION:

Unclassified.

SYSTEM LOCATION:

The system will be managed by the Office of Chemical Safety and Pollution Prevention, Environmental Protection Agency, 1200 Pennsylvania Ave. NW, Washington, DC 20460. Electronically stored information is hosted at the EPA National Computer Center (NCC), 109 TW Alexander Drive, Research Triangle Park, Durham, NC 27711. Paper records are also maintained at EPA regional offices as well as the Federal program contractor's facilities.

SYSTEM MANAGER(S):

Brian Symmes, Acting Director, Existing Chemicals Risk Management Division, USEPA, Office of Pollution Prevention and Toxics, (7404T), 1200 Pennsylvania Ave. NW, Washington, DC 20460, (202) 566-1652; and Michelle Price, Chief, Risk Management Branch 2, Existing Chemicals Risk Management Division, USEPA, Office of Pollution Prevention and Toxics, (7404T), 1200 Pennsylvania Ave. NW, Washington, DC 20460, (202) 566-0744.

AUTHORITY FOR MAINTENANCE OF THE SYSTEM:

Section 402 of the Toxic Substances Control Act (TSCA), 15 U.S.C. 2601 et seq., 40 CFR part 745—Lead-based Paint Poisoning Prevention in Certain Residential Structures.

PURPOSE(S) OF THE SYSTEM:

Information collected in this system is used to establish an applicant's eligibility for (1) certification to conduct lead-based paint and RRP activities in target housing and child-occupied facilities; and (2) accreditation to teach lead-based paint and RRP activities training courses. This certification and accreditation information, as well as information collected from required notifications is used for compliance monitoring, enforcement purposes, and related research.

CATEGORIES OF INDIVIDUALS COVERED BY THE SYSTEM:

Firms (including sole proprietorships and individuals doing business), trainers and individuals that perform or wish to perform regulated lead-based paint and renovation activities. Members of the public who have been trained by an EPA accredited training provider to conduct regulated lead-based paint or renovation activities.

CATEGORIES OF RECORDS IN THE SYSTEM:

The FLPP Database system of records contains individuals' names, home addresses, business addresses, telephone numbers, email addresses, documentation of experience/education/training, date of birth, gender, height, weight, hair color, eye color, and photographs.

RECORD SOURCE CATEGORIES:

Information is obtained from individuals through their submission of relevant programmatic forms. These include applications for individual and firm certification, training provider accreditation, notification of training and abatement activities.

ROUTINE USES OF RECORDS MAINTAINED IN THE SYSTEM, INCLUDING CATEGORIES OF USERS AND PURPOSES OF SUCH USES:

The routine uses below are both related to and compatible with the original purpose for which the information was collected. The following general routine uses apply to this system (86 FR 62527): A, B, C, D, E, F, G, H, I, J, K, L and M.

Additional routine uses that apply to this system are:

(1) Information may be disclosed to contractors, grantees, consultants, volunteers, educational institutions, or research organizations who have a need to have access to the information in the performance of research related to the FLPP. Information may be shared for Agency research purposes or to support other FLPP-related research activities at educational institutions or research organizations. When appropriate, recipients will be required to comply with the requirements of the Privacy Act of 1974 as provided in 5 U.S.C. 552a(m).

POLICIES AND PRACTICES FOR STORAGE OF RECORDS:

These records are maintained electronically on computer storage devices located at the U.S. EPA National Computer Center, 109 T.W. Alexander Drive, Research Triangle Park, NC 27711. Paper records are maintained at the EPA regional offices and the facility operated by EPA's Federal program contractor's office.

POLICIES AND PRACTICES FOR RETRIEVAL OF RECORDS:

Records are retrieved by an individual's name, date of birth, home address, business address, application ID number, applicant ID number, or program activity.

POLICIES AND PRACTICES FOR RETENTION AND DISPOSAL OF RECORDS:

EPA will retain and dispose of these records in accordance with the EPA Records Schedule 0089. The National Archives and Records Administration (NARA) Disposal Authority: DAA-GRS-2013-0002-0016 disposition instructions requires NARA records to be closed when no longer needed to conduct Agency business and to be destroyed immediately after file closure. When disposal of records is appropriate, sensitive information must be shredded or otherwise definitively destroyed to protect confidentiality.

ADMINISTRATIVE, TECHNICAL, AND PHYSICAL SAFEGUARDS:

Security controls used to protect personal sensitive data in the FLPP Database are commensurate with those required for an information system rated MODERATE for confidentiality, integrity, and availability, as prescribed in the National Institute of Standards and Technology (NIST) Special Publication, 800-53, “Security and Privacy Controls for Federal Information Systems and Organizations,” Revision 5.

1. Administrative Safeguards: All personnel are required to complete annual agency Information Security and Privacy training. All personnel are instructed to lock their computers when they leave their desks.

2. Technical Safeguards: Electronic records are maintained in a secure, password protected electronic system. FLLP Database access is limited to authorized, authenticated users integrated with the Agency's single-sign-on or Login.gov. This integration uses the user's credentials to identify the user prior to granting access to the platform and the FLPP Database. All of the system's electronic communication utilizes the agency's Trusted internet Connection (TIC).

3. Physical Safeguards: All records are maintained in secure, access-controlled areas or buildings. Paper records stored at EPA's Federal program contractor and storage facility are protected by computerized badge-reading security systems, with files maintained in locked file drawers. Records stored at EPA offices are secured through building security protocols and computerized badge-reading systems.

RECORD ACCESS PROCEDURES:

All requests for access to personal records should cite the Privacy Act of 1974 and reference the type of request being made (i.e., access). Requests must include: (1) the name and signature of the individual making the request; (2) the name of the Privacy Act system of records to which the request relates; (3) a statement whether a personal inspection of the records or a copy of them by mail is desired; and (4) proof of identity. A full description of EPA's Privacy Act procedures for requesting access to records is included in EPA's Privacy Act regulations at 40 CFR part 16.

CONTESTING RECORD PROCEDURES:

Requests for correction or amendment must include: (1) the name and signature of the individual making the request; (2) the name of the Privacy Act system of records to which the request relates; (3) a description of the information sought to be corrected or amended and the specific reasons for the correction or amendment; and (4) proof of identity. A full description of EPA's Privacy Act procedures for the correction or amendment of a record is included in EPA's Privacy Act regulations at 40 CFR part 16.

NOTIFICATION PROCEDURES:

Individuals who wish to be informed whether a Privacy Act system of records maintained by EPA contains any record pertaining to them, should make a written request to the EPA, Attn: Agency Privacy Officer, MC 2831T, 1200 Pennsylvania Ave. NW, Washington, DC 20460, or by email at: privacy@epa.gov. A full description of EPA's Privacy Act procedures is included in EPA's Privacy Act regulations at 40 CFR part 16.

EXEMPTIONS PROMULGATED FOR THE SYSTEM:

None.

HISTORY:

70 FR 35251—Established a new System of Records (SOR) under the Federal Lead-Based Paint Program (June 17, 2005).

74 FR 42298—Amended an existing system of records (SOR) by changing the title of “Lead-Based Paint System of Records” (LPSOR) to the “Federal Lead-Based Paint Program System of Records” (FLPPSOR) (August 21, 2009) https://www.govinfo.gov/content/pkg/FR-2009-08-21/pdf/E9-20209.pdf.

84 FR 5673—Amended an existing system of records (SOR) to update the category of uses to add lead-based paint and renovator professionals' photographs, to add names of training program manages and principal course instructors as well as their education experience or training qualification, and to discuss EPA's Central Data Exchange (CDX) interconnection or online applications and notifications submissions and other administrative updates to the FLPPSOR (February 22, 2019).

Vaughn Noga,
Senior Agency Official for Privacy.

[FR Doc. 2022-22271 Filed 10-18-22; 8:45 am]

BILLING CODE 6560-50-P